DEPARTMENT OF TRANSPORTATION

Surface Transportation Board

[Finance Docket No. 34424]

STB Finance Docket No. 34424, Railroad Control Application, Canadian National Railway Company and Grand Trunk Corporation—Control—Duluth, Missabe and Iron Range Railway Company, Bessemer and Lake Erie Railroad Company, and The Pittsburgh & Conneaut Dock Company

AGENCY: Surface Transportation Board.

ACTION: Notice of Availability of Environmental Appendix and Request for Comments.

SUMMARY: CN has filed an application with the Surface Transportation Board (Board) seeking approval under 49 U.S.C. 11321-11325 to acquire control of three rail carriers—Duluth, Missabe and Iron Range Railway Company; Bessemer and Lake Erie Railroad Company; and The Pittsburgh & Conneaut Dock Company—from Great Lakes Transportation, LLC (GLT).

CN has met with the Board's Section of Environmental Analysis (SEA) and has explained to SEA that CN believes that its proposed transaction would not have significant environmental impacts or require further environmental review. Therefore, according to CN, the Board should exercise its authority under 49 CFR 1105.6(d) and find that this transaction is one for which preparation of an Environmental Assessment or an Environmental Impact Statement is not required. To afford the public an opportunity to review and comment on CN's conclusion, CN has prepared an “Environmental Appendix,” which provides further information in support of CN's conclusion. CN has mailed copies of the Environmental Appendix to appropriate government agencies and other interested parties. CN has also placed notices in major newspapers delivered to communities located in the project area announcing the availability of the Environmental Appendix and the opportunity for public review and comment on the Environmental Appendix.

Comments are due to SEA by December 10, 2003. SEA invites written comments on all aspects of the Environmental Appendix and whether there is any reason that the proposed transaction could result in potentially significant environmental impacts warranting preparation of further environmental documentation. SEA will consider all timely written comments on the Environmental Appendix when making its recommendation to the Board about whether there is a need for further environmental review in this case. Comments should be submitted to the address below.

DATES: Comments on the Environmental Appendix are due by December 10, 2003.

ADDRESSES: Comments (an original and 10 copies) regarding the Environmental Appendix should be submitted in writing to: Case Control Unit, STB Finance Docket No. 34424, Surface Transportation Board, 1925 K Street NW., Washington, DC 20423, to the attention of Phillis Johnson-Ball.

FOR FURTHER INFORMATION CONTACT: Phillis Johnson-Ball, (202) 565-1530 (TDD for the hearing impaired, 1-800-877-8339). To obtain a copy of the Environmental Appendix, you may contact Ms. Johnson-Ball at the number above or Mr. Paul Cunningham, CN's legal representative, at (202) 973-7600. Copies of the Environmental Appendix are available on the Board's Web site http://www.stb.dot.gov. Copies are also available for a fee from ASAP Document Solutions, Suite 405, 1925 K Street, NW., Washington, DC 20006, phone (202) 293-7878.

By the Board, Victoria Rutson, Chief, Section of Environmental Analysis.
Vernon A. Williams,
Secretary.

[FR Doc. 03-28628 Filed 11-14-03; 8:45 am]

BILLING CODE 4915-00-P